COMMODITY FUTURES TRADING COMMISSION

Request of the Chicago Board of Trade (CBOT) for Product Approval of CBOT X-Fund Futures

AGENCY: Commodity Futures Trading Commission.

ACTION: Notice of terms and conditions of commodity futures contract.

SUMMARY: The Chicago Board of Trade (CBOT or Exchange) has requested that the Commission approve a new product, CBOT X-fund futures, pursuant to the provisions of section 5c(c)(2)(A) of the Commodity Exchange Act as amended. The Acting Director of the Division of Economic Analysis (Division) of the Commission, acting pursuant to the authority delegated by the Commission Regulation 140.96, has determined that public comment on the propose product is in the public interest, will assist the Commission in considering the views of interested persons, and is consistent with the purpose of the Commodity Exchange Act.

DATES: Comments must be received on or before January 25, 2002.

ADDRESSES: Interested persons should submit their views and comments to Jean A. Webb, Secretary, Commodity Futures Trading Commission, Three Lafayette Centre, 1155 21st Street, NW., Washington, DC 20581. In addition, comments may be sent by facsimile transmission to facsimile number (202) 418-5521 or by electronic mail to secretary@cftc.gov. Reference should be made to the CBOT X-Fund futures contract.

FOR FURTHER INFORMATION CONTACT: Please contact Richard Shilts of the Division of Economic Analysis, Commodity Futures Trading Commission, Three Lafayette Centre, 1155 21st Street NW., Washington, DC (202) 418-5282. Facsimile number: (202) 418-5527. Electronic mail: Manalysis@cftc.gov

SUPPLEMENTARY INFORMATION: Copies of the terms and condition of the X-Fund futures contract, as well as additional information about the contract, are available on the CBOT Web site at: http://www.CBOT.com/cbot/www/cont_modular/1,2291,14+56+13,00.html.

Other materials submitted by the CBOT in support of the request for product approval may be available upon request pursuant to the Freedom of Information Act (5 U.S.C. 552) and the Commission's regulations thereunder (17 CFR part 145 (2000)), except to the extent they are entitled to confidential treatment as set forth in 17 CFR 145.5 and 145.9. Requests for copies of such materials should be made to the FOI, Privacy and Sunshine Act Compliance Staff of the Office of Secretariat at the Commission's headquarters in accordance with 17 CFR 145.7 and 145.8.

Any person interested in submitting written data, views, or arguments on the proposed terms and conditions, or with respect to other materials submitted by the CBOT should send such comments to Jean A. Webb, Secretary, Commodity Futures Trading Commission, Three Lafayette Centre, 1155 21st Street, NW., Washington, DC 20581 by the specified date.

Issued in Washington, DC, on January 3, 2002.
Richard A. Shilts,
Acting Director.

[FR Doc. 02-590 Filed 1-9-02; 8:45 am]

BILLING CODE 8351-01-M